DEPARTMENT OF THE INTERIOR

National Park Service

[NPS-WASO-NAGPRA-NPS0031805; PPWOCRADN0-PCU00RP14.R50000]

Notice of Intent To Repatriate Cultural Items: Federal Bureau of Investigation, Art Theft Program, Washington, DC

AGENCY: National Park Service, Interior.

ACTION: Notice.

SUMMARY: The Federal Bureau of Investigation (FBI), in consultation with the appropriate Indian Tribes or Native Hawaiian organizations, has determined that the cultural item listed in this notice meets the definition of a sacred object. Lineal descendants or representatives of any Indian Tribe or Native Hawaiian organization not identified in this notice that wish to claim this cultural item should submit a written request to the FBI. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the FBI at the address in this notice by May 24, 2021.

ADDRESSES: Federal Bureau of Investigation, FBI Headquarters, Attn: Supervisory Special Agent Timothy Carpenter, Art Theft Program, 935 Pennsylvania Avenue NW, Washington, DC 20535, telephone (954) 931-3670, email artifacts@ic.fbi.gov.

SUPPLEMENTARY INFORMATION: Notice is here given in accordance with the Native American Graves Protection and Repatriation Act (NAGPRA), 25 U.S.C. 3005, of the intent to repatriate a cultural item under the control of the Federal Bureau of Investigation, Washington, DC, that meets the definition of a sacred object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Items

At an unknown date, one sacred object was acquired and transported to the East Coast, where it remained part of a private collection of Native American antiquities, art, and cultural heritage. In the spring of 2018, this item was seized by the FBI as part of a criminal investigation. The one item is a gahan mask culturally affiliated with the Mescalero Apache Tribe of the Mescalero Reservation, New Mexico, based on consultation with an official representative of the Tribe. Initial expertise concerning this item was also provided by staff at museums and universities in the Southwest region.

Determinations Made by the Federal Bureau of Investigation

Officials of the Federal Bureau of Investigation have determined that:

• Pursuant to 25 U.S.C. 3001(3)(C), the one cultural item described above is a specific ceremonial object needed by traditional Native American religious leaders for the practice of traditional Native American religions by their present-day adherents.

• Pursuant to 25 U.S.C. 3001(2), there is a relationship of shared group identity that can be reasonably traced between the sacred object and the Mescalero Apache Tribe of the Mescalero Reservation, New Mexico.

Additional Requestors and Disposition

Lineal descendants or representatives of any Indian Tribe or Native Hawaiian organization not identified in this notice that wish to claim this cultural item should submit a written request with information in support of the claim to Federal Bureau of Investigation, FBI Headquarters, Attn: Supervisory Special Agent Timothy Carpenter, Art Theft Program, 935 Pennsylvania Avenue NW, Washington, DC 20535, telephone (954) 931-3670, email artifacts@ic.fbi.gov, by May 24, 2021. After that date, if no additional claimants have come forward, transfer of control of the sacred object to the Mescalero Apache Tribe of the Mescalero Reservation, New Mexico may proceed.

The Federal Bureau of Investigation is responsible for notifying the Mescalero Apache Tribe of the Mescalero Reservation, New Mexico that this notice has been published.

Dated: April 16, 2021.
Melanie O'Brien,
Manager, National NAGPRA Program.

[FR Doc. 2021-08396 Filed 4-21-21; 8:45 am]

BILLING CODE 4312-52-P